DEPARTMENT OF ENERGY

Federal Energy Regulatory Commission

[Docket No. EL12-38-000]

New York Independent System Operator, Inc.; Notice of Petition for Declaratory Order

Take notice that on February 28, 2012, pursuant to Rule 207 of the Federal Energy Regulatory Commission's (Commission) Rules of Practice and Procedure, 18 CFR 385.207, New York Independent System Operator, Inc. (NYISO), filed a Petition for Declaratory Order, requesting that the Commission issue an order providing guidance on how the NYISO should recover from its customers the costs assessed pursuant to the Commission's December 30, 2010 Order issued in Docket No. ER11-1844-000.¹ NYISO's petition also seeks declaration that NYISO not be required to pay invoices for charges imposed by Midwest Independent Transmission System Operator, Inc. until after the hearing established in December 30 Order has concluded and a final Commission order has been issued.

¹ Midwest Independent System Operator, Inc., 133 FERC ¶ 61,275 (2010) (December 30 Order).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on March 29, 2012.

Dated: February 29, 2012.
Kimberly D. Bose,
Secretary.

[FR Doc. 2012-5467 Filed 3-6-12; 8:45 am]

BILLING CODE 6717-01-P